DEPARTMENT OF COMMERCE

National Oceanic and Atmospheric Administration

50 CFR Part 679

RIN 0648-XA500

North Pacific Fishery Management Council; Essential Fish Habitat Amendments

AGENCY: National Marine Fisheries Service (NMFS), National Oceanic and Atmospheric Administration (NOAA), Commerce.

ACTION: Notice of agency decision.

SUMMARY: NMFS announces approval of Amendment 98 to the Fishery Management Plan (FMP) for Groundfish of the Bering Sea and Aleutian Islands Management Area (BSAI Groundfish FMP); Amendment 90 to the FMP for Groundfish of the Gulf of Alaska (GOA Groundfish FMP); Amendment 40 to the FMP for Bering Sea/Aleutian Islands King and Tanner Crabs (BSAI Crab FMP); Amendment 15 to the FMP for the Scallop Fishery off Alaska (Scallop FMP); and Amendment 1 to the FMP for Fish Resources of the Arctic Management Area (Arctic FMP). These amendments update the existing essential fish habitat (EFH) provisions in the FMPs based on a 5-year EFH review. This action is intended to promote the goals and objectives of the Magnuson-Stevens Fishery Conservation and Management Act, the FMPs, and other applicable laws.

DATES: The amendments were approved on October 31, 2012.

ADDRESSES: Electronic copies of the Final EFH 5-year Review for 2010 Summary Report, the Environmental Assessment prepared for this action and the amendments may be obtained from the Alaska Region Web site at http://alaskafisheries.noaa.gov.

FOR FURTHER INFORMATION CONTACT: Sarah Ellgen, 907-586-7228.

SUPPLEMENTARY INFORMATION: The Magnuson-Stevens Fishery Conservation and Management Act (Magnuson-Stevens Act) requires that each regional fishery management council submit any FMP amendment it prepares to NMFS for review and approval, disapproval, or partial approval by the Secretary of Commerce. The Magnuson-Stevens Act also requires that NMFS, upon receiving an FMP amendment, immediately publish a notice in the Federal Register announcing that the amendment is available for public review and comment.

On August 8, 2012, NMFS published the notice of availability for the amendments, with a comment period that ended on October 9, 2012 (77 FR 47356). NMFS did not receive any comments on these proposed amendments.

NMFS determined that these amendments are consistent with the Magnuson-Stevens Act and other applicable laws and approved the amendments on October 31, 2012. The notice of availability contains additional information on this action. No changes to Federal regulations are necessary to implement these FMP amendments.

NMFS and regional fishery management councils must describe and identify EFH in FMPs. The Magnuson-Stevens Act defines EFH as “those waters and substrate necessary to fish for spawning, breeding, feeding, or growth to maturity.” The FMPs contain various EFH components, including the requirement to review EFH every 5 years.

In 2009 and 2010, a 5-year EFH review was conducted for the North Pacific Fishery Management Council (Council), and the results of this review are documented in the Final EFH 5-year Review for 2010 Summary Report (see ADDRESSES). Based on the 5-year review and the summary report, the Council identified various elements of the EFH FMP text that merited revision. EFH revisions to the FMP for the Salmon Fisheries in the EEZ off the Coast of Alaska (Salmon FMP), Amendment 11, were proposed with Amendments 10 and 12 to the Salmon FMP (77 FR 19605, April 2, 2012). The Secretary of Commerce approved Amendments 10, 11, and 12 to the Salmon FMP on June 29, 2012.

The five amendments addressed by this notice revise the following FMP components for EFH:

• The EFH provisions of the BSAI and GOA Groundfish FMPs for 24 groundfish species or complexes.

• The EFH provisions of the BSAI Crab FMP for five crab species or complexes.

• The EFH provisions of the Scallop FMP for weathervane scallop.

• The EFH conservation recommendations for non-fishing activities in all five FMPs.

• The timeline for considering habitat areas of particular concern from 3 years to 5 years in all five FMPs.

• The research objectives for EFH in the four FMPs subject to the 2010 EFH 5-year review (excludes the Arctic FMP).

The details of these revisions are in each amendment (see ADDRESSES).

The 5-year review concluded that no change to the 2005 EFH EIS conclusions on the evaluation of fishing effects on EFH was warranted based on information from 2005 through 2010.

An Environmental Assessment was prepared for the amendments that describe the EFH background, the purpose and need for action, the EFH alternatives, and the environmental, social, and economic impacts of the alternatives (see ADDRESSES). These amendments improve fisheries management by updating EFH provisions in the FMPs with the best available information.

Authority: 16 U.S.C. 1801 et seq.

Dated: November 1, 2012.
Alan D. Risenhoover,
Director, Office of Sustainable Fisheries, performing the functions and duties of the Deputy Assistant Administrator for Regulatory Programs, National Marine Fisheries Service.

[FR Doc. 2012-27075 Filed 11-5-12; 8:45 am]

BILLING CODE 3510-22-P